DEPARTMENT OF COMMERCE

International Trade Administration

[A-588-876, A-583-859, A-489-829]

Steel Concrete Reinforcing Bar From Japan, Taiwan and the Republic of Turkey: Initiation of Less-Than-Fair-Value Investigations

AGENCY: Enforcement and Compliance, International Trade Administration, Department of Commerce.

DATES: Effective October 11, 2016.

FOR FURTHER INFORMATION CONTACT: Emily Halle at (202) 482-0176 (Japan); Jun Jack Zhao at (202) 482-1396 (Taiwan); and Myrna Lobo at (202) 482-2371 (Republic of Turkey), AD/CVD Operations, Enforcement and Compliance, U.S. Department of Commerce, 14th Street and Constitution Avenue NW., Washington, DC 20230.

SUPPLEMENTARY INFORMATION:

The Petitions

On September 20, 2016, the Department of Commerce (the Department) received antidumping duty (AD) petitions concerning imports of steel concrete reinforcing bar (rebar) from Japan, Taiwan, and the Republic of Turkey (Turkey), filed in proper form on behalf of the Rebar Trade Action Coalition and its individual members (Petitioners).¹ The Petitions were accompanied by a countervailing duty (CVD) petition on rebar from Turkey.² Petitioners are domestic producers of rebar.³

¹ See Petition for the Imposition of Antidumping and Countervailing Duties: Steel Concrete Reinforcing Bar from Japan, Taiwan, and the Republic of Turkey, dated September 20, 2016 (the Petitions). The individual members of the Rebar Trade Action Coalition are Bayou Steel Group, Byer Steel Group, Inc., Commercial Metals Company, Gerdau Ameristeel U.S. Inc., Nucor Corporation, and Steel Dynamics, Inc.

² Id.

³ See Volume I of the Petitions, at 2 and Exhibits I-1.

On September 23 and 30, 2016, the Department requested additional information and clarification of certain areas of the Petitions.⁴ Petitioners filed responses to these requests on September 28, October 4, and October 5, 2016, respectively.⁵

⁴ See Letter from the Department to Petitioners entitled “Petitions for the Imposition of Antidumping Duties on Imports of Steel Concrete Reinforcing Bar from Japan, Taiwan, and the Republic of Turkey and Countervailing Duties on Imports of Steel Concrete Reinforcing Bar from the Republic of Turkey: Supplemental Questions,” dated September 23, 2016 (General Issues Supplemental Questionnaire); see also Letter from the Department to Petitioners entitled “Petition for the Imposition of Antidumping Duties on Imports of Steel Concrete Reinforcing Bar from Japan: Supplemental Questions,” dated September 23, 2016 (Japan Supplemental Questionnaire); see also Letter from the Department to Petitioners entitled “Petition for the Imposition of Antidumping Duties on Imports of Steel Concrete Reinforcing Bar from Taiwan: Supplemental Questions,” dated September 23, 2016 (Taiwan Supplemental Questionnaire); see also Letter from the Department to Petitioners entitled “Petition for the Imposition of Antidumping Duties on Imports of Steel Concrete Reinforcing Bar from the Republic of Turkey: Supplemental Questions,” dated September 23, 2016 (Turkey Supplemental Questionnaire); see also Memorandum to the File from Vicki Flynn, Senior Policy Analyst, Office of Policy, Re: “Petitions for the Imposition of Antidumping and Countervailing Duties on Imports of Steel Concrete Reinforcing Bar from the Republic of Turkey and Antidumping Duties on Imports from Japan and Taiwan, Subject: Telephone Conversation with Petitioners' Counsel,” dated September 30, 2016 (Memorandum on Telephone Conversation with Petitioners' Counsel re: Scope and Other Issues).

⁵ See Letter from Petitioners to the Department entitled “Re: Supplement to the Petition for the Imposition of Antidumping and Countervailing Duties on Steel Concrete Reinforcing Bar from Japan, Taiwan, and the Republic of Turkey: Response to the Department's Supplemental Questions,” dated September 28, 2016 (General Issues Supplement); see also Letter from Petitioners to the Department entitled “Re: Supplement to the Petition for the Imposition of Antidumping and Countervailing Duties on Steel Concrete Reinforcing Bar from Japan: Response to the Department's Supplemental Questions,” dated September 28, 2016 (Japan Supplement); see also Letter from Petitioners to the Department entitled “Re: Supplement to the Petition for the Imposition of Antidumping and Countervailing Duties on Steel Concrete Reinforcing Bar from Taiwan: Response to the Department's Supplemental Questions,” dated September 28, 2016 (Taiwan Supplement); see also Letter from Petitioners to the Department entitled “Re: Supplement to the Petition for the Imposition of Antidumping and Countervailing Duties on Steel Concrete Reinforcing Bar from the Republic of Turkey: Response to the Department's Supplemental Questions,” dated September 28, 2016 (Turkey Supplement); see also Letter from Petitioners to the Department entitled “Re: Supplement to the Petition for the Imposition of Antidumping and Countervailing Duties on Steel Concrete Reinforcing Bar from Japan, Taiwan, and the Republic of Turkey: Response to the Department's Supplemental Questions,” dated October 4, 2016 (Second General Issues Supplement); see also Letter from Petitioners to the Department entitled “Steel Concrete Reinforcing Bar from Japan, Taiwan, and the Republic of Turkey: Revised Scope, Amendment to Petition for the Imposition of Antidumping and Countervailing Duties,” dated October 5, 2016 (Third General Issues Supplement).

In accordance with section 732(b) of the Tariff Act of 1930, as amended (the Act), Petitioners allege that imports of rebar from Japan, Taiwan, and Turkey are being, or are likely to be, sold in the United States at less-than-fair value within the meaning of section 731 of the Act, and that such imports are materially injuring, or threatening material injury to, an industry in the United States. Also, consistent with section 732(b)(1) of the Act, Petitioners state that the Petitions are accompanied by information reasonably available to Petitioners supporting their allegations.

The Department finds that Petitioners filed these Petitions on behalf of the domestic industry because Petitioners are interested parties as defined in sections 771(9)(C) and (E) of the Act. The Department also finds that Petitioners demonstrated sufficient industry support with respect to the initiation of the AD investigations that Petitioners are requesting.⁶

⁶ See the “Determination of Industry Support for the Petitions” section below.

Period of Investigation

Because the Petitions were filed on September 20, 2016, the period of investigation (POI) for each investigation is, pursuant to 19 CFR 351.204(b)(1), July 1, 2015, through June 30, 2016.

Scope of the Investigations

The product covered by these investigations is rebar from Japan, Taiwan, and Turkey. For a full description of the scope of these investigations, see the “Scope of the Investigations,” at Appendix I of this notice. Note that one paragraph in the description of the scope of these investigations in Appendix I applies by its express terms solely to the merchandise covered by the concurrent countervailing duty investigation of rebar from Turkey and does not apply to these less-than-fair-value investigations.

Comments on Scope of the Investigations

During our review of the Petitions, the Department issued questions to, and received responses from, Petitioners pertaining to the proposed scope to ensure that the scope language in the Petitions would be an accurate reflection of the products for which the domestic industry is seeking relief.⁷

⁷ See General Issues Supplemental Questionnaire and General Issues Supplement; see also Memorandum on Telephone Conversation with Petitioners' Counsel re: Scope and Other Issues and Third General Issues Supplement.

As discussed in the preamble to the Department's regulations, we are setting aside a period for interested parties to raise issues regarding product coverage (scope). The Department will consider all comments received from parties and, if necessary, will consult with parties prior to the issuance of the preliminary determinations. If scope comments include factual information (see 19 CFR 351.102(b)(21)), all such factual information should be limited to public information. In order to facilitate preparation of its questionnaires, the Department requests all interested parties to submit such comments by 5:00 p.m. Eastern Daylight Time (EDT) on October 31, 2016, which is 20 calendar days from the signature date of this notice. Any rebuttal comments, which may include factual information (also should be limited to public information), must be filed by 5:00 p.m. EST (Eastern Standard Time) on November 10, 2016, which is 10 calendar days after the initial comments. All such comments must be filed on the records of each of the concurrent AD and CVD investigations.

The Department requests that any factual information the parties consider relevant to the scope of the investigations be submitted during this time period. However, if a party subsequently finds that additional factual information pertaining to the scope of the investigations may be relevant, the party may contact the Department and request permission to submit the additional information. As stated above, all such comments must be filed on the records of each of the concurrent AD and CVD investigations.

Filing Requirements

All submissions to the Department must be filed electronically using Enforcement and Compliance's Antidumping and Countervailing Duty Centralized Electronic Service System (ACCESS).⁸ An electronically filed document must be received successfully in its entirety by the time and date when it is due. Documents excepted from the electronic submission requirements must be filed manually (i.e., in paper form) with Enforcement and Compliance's APO/Dockets Unit, Room 18022, U.S. Department of Commerce, 14th Street and Constitution Avenue NW., Washington, DC 20230, and stamped with the date and time of receipt by the applicable deadlines.

⁸ See Antidumping and Countervailing Duty Proceedings: Electronic Filing Procedures; Administrative Protective Order Procedures, 76 FR 39263 (July 6, 2011) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department will be giving interested parties an opportunity to provide comments on the appropriate physical characteristics of rebar to be reported in response to the Department's AD questionnaires. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe rebar, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all product characteristics comments must be filed by 5:00 p.m. EDT on October 31, 2016, which is 20 calendar days from the signature date of this notice. Any rebuttal comments must be filed by 5:00 p.m. EST on November 10, 2016. All comments and submissions to the Department must be filed electronically using ACCESS, as explained above, on the records of each of the concurrent AD investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,⁹ they do so for different purposes and pursuant to a separate and distinct authority. In addition, the Department's determination is subject to limitations of time and information. Although this may result in different definitions of the like product, such differences do not render the decision of either agency contrary to law.¹⁰

⁹ See section 771(10) of the Act.

¹⁰ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, Petitioners do not offer a definition of the domestic like product distinct from the scope of the investigations. Based on our analysis of the information submitted on the record, we have determined that rebar, as defined in the scope, constitutes a single domestic like product and we have analyzed industry support in terms of that domestic like product.¹¹

¹¹ For a discussion of the domestic like product analysis in this case, see Antidumping Duty Investigation Initiation Checklist: Steel Concrete Reinforcing Bar from Japan (Japan AD Initiation Checklist), at Attachment II, Analysis of Industry Support for the Antidumping and Countervailing Duty Petitions Covering Steel Concrete Reinforcing Bar from Japan, Taiwan, and the Republic of Turkey (Attachment II); Antidumping Duty Investigation Initiation Checklist: Steel Concrete Reinforcing Bar from Taiwan (Taiwan AD Initiation Checklist), at Attachment II; and Antidumping Duty Investigation Initiation Checklist: Steel Concrete Reinforcing Bar from the Republic of Turkey (Turkey AD Initiation Checklist), at Attachment II. These checklists are dated concurrently with this notice and on file electronically via ACCESS. Access to documents filed via ACCESS is also available in the Central Records Unit, Room B8024 of the main Department of Commerce building.

In determining whether Petitioners have standing under section 732(c)(4)(A) of the Act, we considered the industry support data contained in the Petitions with reference to the domestic like product as defined in the “Scope of the Investigations,” in Appendix I of this notice. To establish industry support, Petitioners provided their 2015 shipments of the domestic like product, and compared their shipments to estimated total shipments of the domestic like product for the entire domestic industry.¹² Because production data for the U.S. rebar industry for 2015 is not reasonably available to Petitioners and Petitioners have established that shipments are a reasonable proxy for production data,¹³ we have relied upon the shipment data provided by Petitioners for purposes of measuring industry support.

¹² See Volume I of the Petitions, at 3 and Exhibits I-4 and I-31; see also General Issues Supplement, at 3-6 and Exhibits I-Supp-4 and I-Supp-7.

¹³ See General Issues Supplement, at 5 and Exhibits I-Supp-4 and I-Supp-5.

Our review of the data provided in the Petitions, General Issues Supplement, and other information readily available to the Department indicates that Petitioners have established industry support.¹⁴ First, the Petitions established support from domestic producers and workers accounting for more than 50 percent of the total shipments ¹⁵ of the domestic like product and, as such, the Department is not required to take further action in order to evaluate industry support (e.g., polling).¹⁶ Second, the domestic producers and workers have met the statutory criteria for industry support under section 732(c)(4)(A)(i) of the Act because the domestic producers and workers who support the Petitions account for at least 25 percent of the total shipments of the domestic like product.¹⁷ Finally, the domestic producers and workers have met the statutory criteria for industry support under section 732(c)(4)(A)(ii) of the Act because the domestic producers and workers who support the Petitions account for more than 50 percent of the shipments of the domestic like product produced by that portion of the industry expressing support for, or opposition to, the Petitions.¹⁸ Accordingly, the Department determines that the Petitions were filed on behalf of the domestic industry within the meaning of section 732(b)(1) of the Act.

¹⁴ See Japan AD Initiation Checklist, Taiwan AD Initiation Checklist, and Turkey AD Initiation Checklist, at Attachment II.

¹⁵ As discussed above, Petitioners established that shipments are a reasonable proxy for production data. Section 351.203(e)(1) of the Department's regulations states “production levels may be established by reference to alternative data that the Secretary determines to be indicative of production levels.”

¹⁶ See section 732(c)(4)(D) of the Act; see also Japan AD Initiation Checklist, Taiwan AD Initiation Checklist, and Turkey AD Initiation Checklist, at Attachment II.

¹⁷ See Japan AD Initiation Checklist, Taiwan AD Initiation Checklist, and Turkey AD Initiation Checklist, at Attachment II.

¹⁸ Id.

The Department finds that Petitioners filed the Petitions on behalf of the domestic industry because they are interested parties as defined in sections 771(9)(C) and (E) of the Act and they have demonstrated sufficient industry support with respect to the AD investigations that they are requesting the Department initiate.¹⁹

¹⁹ Id.

Allegations and Evidence of Material Injury and Causation

Petitioners allege that the U.S. industry producing the domestic like product is being materially injured, or is threatened with material injury, by reason of the imports of the subject merchandise sold at less than normal value (NV). In addition, Petitioners allege that subject imports exceed the negligibility threshold provided for under section 771(24)(A) of the Act.²⁰

²⁰ See General Issues Supplement, at 6-7 and Exhibit I-Supp-8; see also Volume I of the Petitions, at Exhibit I-23.

Petitioners contend that the industry's injured condition is illustrated by reduced market share; underselling and price suppression or depression; lost sales and revenues; declines in production, capacity utilization, and U.S. shipments; negative impact on employment variables; and decline in financial performance.²¹ We have assessed the allegations and supporting evidence regarding material injury, threat of material injury, and causation, and we have determined that these allegations are properly supported by adequate evidence, and meet the statutory requirements for initiation.²²

²¹ See Volume I of the Petitions, at 14, 18-48 and Exhibits I-5, I-8, I-20, and I-23 through I-59; see also General Issues Supplement, at 6-8 and Exhibits I-Supp-7 through I-Supp-10.

²² See Japan AD Initiation Checklist, at Attachment III, Analysis of Allegations and Evidence of Material Injury and Causation for the Antidumping and Countervailing Duty Petitions Covering Steel Concrete Reinforcing Bar from Japan, Taiwan, and the Republic of Turkey (Attachment III); see also Taiwan AD Initiation Checklist, at Attachment III; and Turkey AD Initiation Checklist, at Attachment III.

Allegations of Sales at Less-Than-Fair Value

The following is a description of the allegations of sales at less-than-fair value upon which the Department based its decision to initiate investigations of imports of rebar from Japan, Taiwan, and Turkey. The sources of data for the deductions and adjustments relating to U.S. price and NV are discussed in greater detail in the country-specific initiation checklists.

Export Price

For Japan, Petitioners based export price (EP) on quoted sales offers or transactions to customers in the United States for rebar produced in, and exported from, Japan.²³ Where applicable, Petitioners made deductions from U.S. price for movement expenses consistent with the delivery terms.²⁴ Petitioners also deducted from U.S. price brokerage and handling expenses.²⁵

²³ See Japan AD Initiation Checklist; see also Volume II of the Petitions, at 2-3 and Exhibit AD-JP-2.

²⁴ See Japan AD Initation Checklist; see also Volume II of the Petitions, at 2-7 and Exhibit AD-JP-11; see also Japan Supplement, at Exhibit AD-JP-Supp-2.

²⁵ Id.

For Taiwan, and Turkey, Petitioners based EP on transaction-specific average unit values (AUVs) for shipments of rebar identified from each of these countries entered under the relevant Harmonized Tariff Schedule of the United States (HTSUS) subheading for one month during the POI into a specific port.²⁶ Under this methodology,²⁷ Petitioners linked data from an independent source to monthly U.S. port-specific import statistics (obtained from the ITC's Dataweb). Petitioners linked imports of rebar entered under the relevant HTSUS subheading to shipments from producers in the subject countries identified in the independent source data to ensure that the Dataweb statistics were only for subject merchandise.²⁸ To calculate ex-factory prices, Petitioners made adjustments for foreign inland freight and brokerage and handling expenses; Petitioners made no adjustments to EP for international freight and insurance expenses, consistent with the manner in which the data is reported in Dataweb.²⁹

²⁶ See Taiwan AD Initiation Checklist, and Turkey AD Initiation Checklist.

²⁷ Id.

²⁸ Id.

²⁹ Id.

Normal Value Based on Constructed Value

For Japan, Taiwan, and Turkey, Petitioners were unable to obtain information regarding home market prices and, therefore, calculated NV based on constructed value (CV).³⁰ Pursuant to section 773(e) of the Act, CV consists of the cost of manufacturing (COM), selling, general and administrative (SG&A) expenses, financial expenses, packing expenses, and profit. Petitioners calculated COM based on a U.S. producer of rebar (U.S. surrogate's) experience, adjusted for known differences between producing in the United States and producing in the respective country (i.e., Japan, Taiwan, or Turkey), during the proposed POI.³¹ Using publicly-available data to account for price differences, Petitioners multiplied the surrogate raw material and packing usage quantities by the submitted value of the inputs used to manufacture rebar in each country.³² For Japan, Taiwan, and Turkey, labor and energy rates were derived from publicly-available sources multiplied by the U.S. surrogate's product-specific usage quantities.³³ For Japan, Taiwan, and Turkey, to determine the factory overhead, SG&A, and financial rates, Petitioners relied on the audited financial statements of companies that were producers of identical merchandise operating in the respective subject country.³⁴ Petitioners also relied on the audited financial statements of the same producers that they used for calculating the factory overhead, SG&A, and financial expenses to calculate the profit rate.³⁵

³⁰ See Japan AD Initiation Checklist, Taiwan AD Initiation Checklist, and Turkey AD Initiation Checklist. In accordance with section 505(a) of the Trade Preferences Extension Act of 2015, amending section 773(b)(2) of the Act, for all of the investigations, the Department will request information necessary to calculate the cost of production (COP) and CV to determine whether there are reasonable grounds to believe or suspect that sales of the foreign like product have been made at prices that represent less than the COP of the product. The Department will no longer require a COP allegation to conduct this analysis.

³¹ See Japan AD Initiation Checklist, Taiwan AD Initiation Checklist, and Turkey AD Initiation Checklist.

³² Id.

³³ Id.

³⁴ Id.

³⁵ Id.

Fair Value Comparisons

Based on the data provided by Petitioners, there is reason to believe that imports of rebar from Japan, Taiwan, and Turkey, are being, or are likely to be, sold in the United States at less-than-fair value. Based on comparisons of EP to NV in accordance with sections 773(a) and (e) of the Act, the estimated dumping margin(s) for rebar are as follows: (1) Japan, 204.91 to 209.46 percent; ³⁶ (2) Taiwan, 84.66 percent; ³⁷ and (3) Turkey, 66.55 percent.³⁸

³⁶ See Japan Supplement, Exhibit AD-JP-Supp-3, and Japan AD Initiation Checklist.

³⁷ See Taiwan Supplement, Exhibit AD-TW-Supp-6, and Taiwan AD Initiation Checklist.

³⁸ See Turkey Supplement, Exhibit AD-TR-Supp-6, and Turkey AD Initiation Checklist.

Initiation of Less-Than-Fair-Value Investigations

Based upon the examination of the AD Petitions on rebar from Japan, Taiwan, and Turkey, we find that the Petitions meet the requirements of section 732 of the Act. Therefore, we are initiating AD investigations to determine whether imports of rebar for Japan, Taiwan, and Turkey, are being, or are likely to be, sold in the United States at less-than-fair value. In accordance with section 733(b)(1)(A) of the Act and 19 CFR 351.205(b)(1), unless postponed, we will make our preliminary determinations no later than 140 days after the date of this initiation.

On June 29, 2015, the President of the United States signed into law the Trade Preferences Extension Act of 2015, which made numerous amendments to the AD and CVD law.³⁹ The 2015 law does not specify dates of application for those amendments. On August 6, 2015, the Department published an interpretative rule, in which it announced the applicability dates for each amendment to the Act, except for amendments contained in section 771(7) of the Act, which relate to determinations of material injury by the ITC.⁴⁰ The amendments to sections 771(15), 773, 776, and 782 of the Act are applicable to all determinations made on or after August 6, 2015, and, therefore, apply to these AD investigations.⁴¹

³⁹ See Trade Preferences Extension Act of 2015, Public Law 114-27, 129 Stat. 362 (2015).

⁴⁰ See Dates of Application of Amendments to the Antidumping and Countervailing Duty Laws Made by the Trade Preferences Extension Act of 2015, 80 FR 46793 (August 6, 2015) (Applicability Notice).

⁴¹ Id., at 46794-95. The 2015 amendments may be found at https://www.congress.gov/bill/114th-congress/house-bill/1295/text/pl.

Respondent Selection

Based on information from an independent source and other open source research, Petitioners identified 20 companies in Japan, 8 companies in Taiwan, and 35 companies in Turkey, as producers/exporters of rebar.⁴² Following standard practice in AD investigations involving market economy countries, in the event the Department determines that the number of companies is large and it cannot individually examine each company based upon the Department's resources, where appropriate, the Department intends to select respondents based on U.S. Customs and Border Protection (CBP) data for U.S. imports under the appropriate HTSUS numbers listed with the “Scope of the Investigations,” in Appendix I, below. We also intend to release the CBP data under Administrative Protective Order (APO) to all parties with access to information protected by APO on the record within five business days of publication of this Federal Register notice. Comments regarding the CBP data and respondent selection should be submitted seven calendar days after the placement of the CBP data on the record of each respective investigation. Parties wishing to submit rebuttal comments should submit those comments five calendar days after the deadline for the initial comments.

⁴² See Volume I of the Petition, at 12-13 and Exhibit I-19.

Comments for the above-referenced investigations must be filed electronically using ACCESS. An electronically-filed document must be received successfully in its entirety by the Department's electronic records system, ACCESS, by 5:00 p.m. ET by the dates noted above. We intend to finalize our decision regarding respondent selection within 20 days of publication of this notice.

Distribution of Copies of the Petitions

In accordance with section 732(b)(3)(A) of the Act and 19 CFR 351.202(f), copies of the public version of the Petitions have been provided to the governments of Japan, Taiwan, and Turkey via ACCESS. To the extent practicable, we will attempt to provide a copy of the public version of the Petitions to each exporter named in the Petitions, as provided under 19 CFR 351.203(c)(2).

ITC Notification

We will notify the ITC of our initiation, as required by section 732(d) of the Act.

Preliminary Determinations by the ITC

The ITC will preliminarily determine, within 45 days after the date on which the Petitions were filed, whether there is a reasonable indication that imports of rebar from Japan, Taiwan, and/or Turkey are materially injuring or threatening material injury to a U.S. industry.⁴³ A negative ITC determination for any country will result in the investigation being terminated with respect to that country; ⁴⁴ otherwise, these investigations will proceed according to statutory and regulatory time limits.

⁴³ See section 733(a) of the Act.

⁴⁴ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, must specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Please review the regulations prior to submitting factual information in these investigations.

Extensions of Time Limits

Parties may request an extension of time limits before the expiration of a time limit established under Part 351, or as otherwise specified by the Secretary. In general, an extension request will be considered untimely if it is filed after the expiration of the time limit established under Part 351 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in this segment.

Certification Requirements

Any party submitting factual information in an AD or CVD proceeding must certify to the accuracy and completeness of that information.⁴⁵ Parties are hereby reminded that revised certification requirements are in effect for company/government officials, as well as their representatives. Investigations initiated on the basis of Petitions filed on or after August 16, 2013, and other segments of any AD or CVD proceedings initiated on or after August 16, 2013, should use the formats for the revised certifications provided at the end of the Final Rule.⁴⁶ The Department intends to reject factual submissions if the submitting party does not comply with applicable revised certification requirements.

⁴⁵ See section 782(b) of the Act.

⁴⁶ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed in 19 CFR 351.103(d)).

This notice is issued and published pursuant to section 777(i) of the Act and 19 CFR 351.203(c).

Dated: October 11, 2016.
Paul Piquado,
Assistant Secretary for Enforcement and Compliance.

Appendix I

Scope of the Investigations

The merchandise subject to these investigations is steel concrete reinforcing bar imported in either straight length or coil form (rebar) regardless of metallurgy, length, diameter, or grade or lack thereof. Subject merchandise includes deformed steel wire with bar markings (e.g., mill mark, size, or grade) and which has been subjected to an elongation test.

The subject merchandise includes rebar that has been further processed in the subject country or a third country, including but not limited to cutting, grinding, galvanizing, painting, coating, or any other processing that would not otherwise remove the merchandise from the scope of the investigations if performed in the country of manufacture of the rebar.

Specifically excluded are plain rounds (i.e., nondeformed or smooth rebar). Also excluded from the scope is deformed steel wire meeting ASTM A1064/A1064M with no bar markings (e.g., mill mark, size, or grade) and without being subject to an elongation test.

At the time of the filing of the petition, there was an existing countervailing duty order on steel reinforcing bar from the Republic of Turkey. Steel Concrete Reinforcing Bar From the Republic of Turkey, 79 FR 65,926 (Dep't Commerce Nov. 6, 2014) (2014 Turkey CVD Order). The scope of this countervailing duty investigation with regard to rebar from Turkey covers only rebar produced and/or exported by those companies that are excluded from the 2014 Turkey CVD Order. At the time of the issuance of the 2014 Turkey CVD Order, Habas Sinai ve Tibbi Gazlar Istihsal Endustrisi A.S. was the only excluded Turkish rebar producer or exporter.

The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0017, 7221.00.0018, 7221.00.0030, 7221.00.0045, 7222.11.0001, 7222.11.0057, 7222.11.0059, 7222.30.0001, 7227.20.0080, 7227.90.6030, 7227.90.6035, 7227.90.6040, 7228.20.1000, and 7228.60.6000.

HTSUS numbers are provided for convenience and customs purposes; however, the written description of the scope remains dispositive.

[FR Doc. 2016-25171 Filed 10-17-16; 8:45 a.m.]

BILLING CODE 3510-DS-P